DEPARTMENT OF AGRICULTURE

Submission for OMB Review; Comment Request

April 10, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Grain Inspection, Packers and Stockyard Administration

Title: Survey of Customers of the Official Grain Inspection and Weighing System.

OMB Control Number: 0580-NEW.

Summary of Collection: The United States Grain Standards Act, as amended (7 U.S.C. 71-87) (USGSA), and the Agricultural Marketing Act of 1946, as amended (7 U.S.C. 1621-1627) (AMA), authorize the Secretary of the United States Department of Agriculture to establish official inspection, grading, and weighing programs for grains and other agricultural commodities. Under the USGSA and AMS, Grain Inspection, Packers and Stockyard Administration (GIPSA's) FGIS offers inspecting, weighing, grading, quality assurance, and certification services for a user-fee, to facilitate the efficient marketing of grain, oilseeds, rice, lentils, dry peas, edible beans, and related agricultural commodities in the global marketplace. The goal of FGIS and the official inspection, grading, and weighing system is to provide timely, high-quality, accurate, consistent, and professional service that facilitates the orderly marketing of grain and related commodities. FGIS will collect information using a survey.

Need and Use of the Information: FGIS will collect information to determine where and to what extent services are satisfactory, and where and to what extent they can be improved. The information will be shared with other managers and program leaders who will be responsible for making any necessary improvements at the office/agency, program, and project level.

Description of Respondents: Business or other for-profit; State, Local or Tribal Government.

Number of Respondents: 1,874.

Frequency of Responses: Reporting: Annually.

Total Burden Hours: 313.

Rural Business-Cooperative Service

Title: Invitation for Applications of Interest to Sell Intermediary Relending Program (IRP) Loans Under and Expended Pilot.

OMB Control Number: 0570-0036.

Summary of Collection: The Rural Business-Cooperative Service (RBS) will competitively select and authorize several intermediaries to sell an aggregate amount of approximately $50 million of the existing IRP portfolios in Fiscal Year (FY) 2000 based on selected criteria. In order to evaluate the IRP applications from the intermediary and to competitively select intermediaries to participate in the sale, certain criteria must be established. This information is necessary to provide the threshold to select those intermediaries to participate in the expanded sale. Each intermediary will be asked to address the criteria in the application submitted.

Need and Use of the Information: RBS will collect the names, addresses, contact person, telephone, fax numbers, and e-mail address. The purpose of the information is to evaluate all applications received to determine eligibility of the intermediary to participate in the secondary market sale based on the criteria set forth. RBS will evaluate each intermediary application based on the published criteria.

Description of Respondents: Business or other for-profit.

Number of Respondents: 1,000.

Frequency of Responses: Reporting: On occasion.

Total Burden Hours: 4,308.

Agricultural Marketing Service

Title: Specified Commodities Imported into the United States Exempt from Import Requirements, 7 CFR Part 944, 980, and 999.

OMB Control Number: 0581-0167.

Summary of Collection: Agricultural Marketing Agreement Act of 1937 (AMAA), as amended (7 U.S.C. 601-674) requires that whenever the Secretary of Agriculture issues grade, size, quality, or maturity regulations under domestic marketing orders for certain commodities, the same or comparable regulations on imports of those commodities must be issued. Import regulations apply only during those periods when domestic marketing order regulations are in effect. No person may import products for processing or other exempt purposes unless the shipment is accompanied by an executed Importers Exempt Commodity Form (FV-6). The Agricultural Marketing Service (AMS) will collect information using forms FV-6 and FV-7.

Need and Use of the Information: AMS will collect information on the following: the product and the variety being imported; the date and place of inspection; identifying marks or numbers on the containers; identifying numbers on the railroad car; truck, or other transportation vehicle transporting product to the receiver; the name, mailing address, phone number, and fax number of the importer; the place and date entry; the quantity imported; the name, mailing address, phone number, and fax number of the intended receiver; intended use of the exempt commodity; and the U.S. Customs Service entry number and harmonized tariff code number.

Description of Respondents: Not-for-profit institutions.

Number of Respondents: 1,920.

Frequency of Responses: Reporting: on occasion.

Total Burden Hours: 1,632.

Rural Utilities Service

Title: 7 CFR 1775, Technical Assistance Program.

OMB Control Number: 0572-0112.

Summary of Collection: Section 306 of the Consolidated Farm and Rural Development Act (CONACT), 7 U.S.C. 1926, authorizes Rural Utilities Service (RUS) to make loans and grants to public agencies, American Indian tribes, and nonprofit corporations. The loans and grants fund the development of drinking water, wastewater, and solid waste disposal facilities in rural areas with populations of up to 10,000 residents. Nonprofit organizations receive Technical Assistance and Training (TAT) and Solid Waste Management (SWM) grants to help small rural communities or areas identify and solve problems relating to community drinking water, wastewater, or solid waste disposal systems. The technical assistance is intended to improve the management and operation of the systems and reduce or eliminate pollution of water resources.

Need and Use of the Information: RUS will collect information to determine applicant eligibility, project feasibility, and the applicant's ability to meet the grant and regulatory requirements. RUS will review the information, evaluate it, and, if the applicant and project are eligible for further competition, invite the applicant to submit a formal application. Failure to collect proper information could result in improper determinations of eligibility, improper use of funds, or hindrances in making grants authorized by the TAT and SWM program.

Description of Respondents: Not-for-profit institutions.

Number of Respondents: 80.

Frequency of Responses: Reporting: On occasion; Quarterly;

Total Burden Hours: 4,168.

Rural Utilities Service

Title: 7 CFR 1744-C, Advance and Disbursement of Funds—Telecommunications.

OMB Control Number: 0572-0023.

Summary of Collection: Section 201 of the Rural Electrification Act (RE Act) of 1936 authorizes the Administrator of the Rural Utilities Service (RUS) to make loans for the purpose of providing telephone service to the widest practicable number of rural subscribers. RUS Form 481, “Financial Requirement Statement,” must be submitted by the borrower to request loan advances. RUS Form 81 is prepared and submitted to RUS by a borrower in order to have approved loan funds advanced.

Need and Use of the Information: RUS will collect information about the description of the advance desired; backup documentation relating to transactions listed on the Form 481; and verification that the funds advanced are related directly to loan purposes. If the information were not collected RUS would not have any control over how loan funds are spent or a record of the balance to be advanced.

Description of Respondents: Business or other for-profit.

Number of Respondents: 645.

Frequency of Responses: Reporting: On occasion.

Total Burden Hours: 2,893.

Rural Utilities Service

Title: 7 CFR Part 1703-H, Deferments of RUS Loan Payments for Rural Development Projects.

OMB Control Number: 0572-0097.

Summary of Collection: Subsection (b) of section 12 of the Rural Electrification Act (RE Act) of 1936, as amended (7 U.S.C. 912), a Rural Utilities Service (RUS) electric or telephone borrower may defer the payment of principal and interest on any insured or direct loan made under the RE Act invest the deferred amounts in rural development projects. The Deferment program is used to encourage borrowers to invest in and promote rural development and rural job creation projects that are based on sound economic and financial analyses.

Need and Use of the Information: RUS will collect information to determine eligibility; specific purposes for which the deferment amount will be utilized; the term of the deferment the borrower will receive; the cost of the total project and degree of participation in the financing from other sources; verification that the purposes will not violate limitations established in 7 CFR 1703-H. If the information were not collected, RUS would be unable to determine eligibility for a project.

Description of Respondents: Not-for-profit; business or other for-profit.

Number of Respondents: 4.

Frequency of Responses: Recordkeeping; reporting: On occasion.

Total Burden Hours: 140.

Forest Service

Title: Forest Industries Data Collection System.

OMB Control Number: 0596-0010.

Summary of Collection: The Forest and Range Renewable Resources Planning Act of 1974 and the Forest and Rangeland Renewable Resources Research Act of 1978 requires the Forest Service (FS) to evaluate trends in the use of logs and wood chips, to forecast anticipated levels of logs and wood chips, and to analyze changes in the harvest of the resources. Forest product and other wood-using industries are important to state, regional, and national economies. In most southern states, the value of rounded timber products is ranked either first or second in relation to other major agricultural crop. The importance and value of the timber products industry is significant in other regions of the United States as well. The FS will collect information using questionnaires.

Need and Use of the Information: FS will collect information to monitor the types, species, volumes, sources, and prices of the timber products harvested throughout the Nation. The data will be used to develop specific economic development plans for new forest-related industry in a State and to assist existing industry in identifying raw material problems and opportunities. If the information were not collected, data would not be available for sub-state, state, regional, and national policy makers and program developers to make decisions related to the forestland on a scientific basis.

Description of Respondents: Business or other for-profit.

Number of Respondents: 2,909.

Frequency of Responses: Reporting: On occasion; Annually.

Total Burden Hours: 2,369.

Animal & Plant Health Inspection Service

Title: Poultry Imports and Export.

OMB Control Number: 0579-0141.

Summary of Collection: Title 21 U.S.C. authorizes sections 111, 114, 114a, 115, 120, 121, 125, 126, 134a, 134c, 134f, and 134g of 21 U.S.C. These authorities permit the Secretary to prevent, control and eliminate domestic diseases such as brucellosis, as well as to take actions to prevent and to manage exotic diseases such as exotic Newcastle disease and other foreign diseases. Disease prevention is the most effective method for maintaining a healthy animal population and enhancing the Animal & Plant Health Inspection Service (APHIS) ability to compete in exporting animals and animal products. A Final rule was published on July 19, 1999, that allow the importation of poultry carcasses from regions of the world where exotic Newcastle disease (END) exists, provided the carcasses did not originate in these regions, and provided the carcasses are processed and shipped according to APHIS requirements. APHIS will collect information using a certificate of origin, serial numbers, records that must be maintain for 2 years and a cooperative service agreement that must be signed.

Need and Use of the Information: APHIS will collect information to ensure that imported poultry carcasses pose a negligible risk of introducing END into the United States.

Description of Respondents: Business or other for-profit.

Number of Responses: 4.

Frequency of Responses: Recordkeeping; reporting; On occasion.

Total Burden Hours: 30.

William McAndrew,
Departmental Clearance Officer.

[FR Doc. 00-9346 Filed 4-13-00; 8:45 am]

BILLING CODE 3410-01-M